DEPARTMENT OF THE TREASURY

Office of Thrift Supervision

Submission for OMB Review; Comment Request

May 10, 2001.

The Office of Thrift Supervision (OTS) has submitted the following public information collection requirement(s) to OMB for review and clearance under the Paperwork Reduction Act of 1995, Public Law 104-13. Interested persons may obtain a copy of the submission by calling the Acting OTS Clearance Officer listed. Send comments regarding this information collection to the OMB reviewer listed and to the Acting OTS Clearance Officer, Information Collection Comments, Chief Counsel's Office, Office of Thrift Supervision, 1700 G Street, NW., Washington, DC 20552, FAX Number (202) 906-6518, or e-mail to: infocollection.comments@ots.treas.gov.

DATES: Submit written comments on or before June 15, 2001.

OMB Number: 1550-0062.

Form Number: Not applicable.

Type of Review: Renewal.

Title: Minimum Security Devices and Procedures.

Description: The Bank Protection Act and OTS implementing regulations require thrifts to establish security devices and procedures. Written security programs allow OTS to evaluate whether thrifts have adopted policies and procedures to ensure compliance with the law and regulations. FDIC, OCC, and FRB have substantially similar regulations.

Respondents: Savings and Loan Associations and Savings Banks.

Estimated Number of Responses: 1,068.

Estimated Burden Hours Per Response: 2.

Frequency of Response: 1 per year.

Estimated Total Reporting Burden: 2,136.

Acting Clearance Officer: Sally W. Watts, (202) 906-7380, Office of Thrift Supervision, 1700 Street, NW., Washington, DC 20552.

OMB Reviewer: Alexander Hunt, (202) 395-7860, Office of Management and Budget, Room 10202, New Executive Office Building, Washington, DC 20503.

Deborah Dakin,
Deputy Chief Counsel, Regulations & Legislation Division.

[FR Doc. 01-12382 Filed 5-15-01; 8:45 am]

BILLING CODE 6720-01-P